DEPARTMENT OF COMMERCE

National Oceanic and Atmospheric Administration

[I.D. 091002H]

Marine Mammals; File No. 751-1614-02

AGENCY: National Marine Fisheries Service (NMFS), National Oceanic and Atmospheric Administration (NOAA), Commerce.

ACTION: Issuance of permit amendment.

SUMMARY: Notice is hereby given that Ocean Alliance/Whale Conservation Institute, 191 Weston Road, Lincoln, MA 01773 (Dr. Roger S. Payne, Principal Investigator) has been issued an amendment to scientific research Permit No. 751-1614-01.

ADDRESSES: The amendment and related documents are available for review upon written request or by appointment in the following office(s):

Permits, Conservation and Education Division, Office of Protected Resources, NMFS, 1315 East-West Highway, Room 13705, Silver Spring, MD 20910; phone (301)713-2289; fax (301)713-0376;

Northeast Region, NMFS, One Blackburn Drive, Gloucester, MA 01930-2298; phone (978)281-9200; fax (978)281-9371; and Southeast Region, NMFS, 9721 Executive Center Drive North, St. Petersburg, FL 33702-2432; phone (727)570-5301; fax (727)570-5320.

FOR FURTHER INFORMATION CONTACT: Tammy Adams or Ruth Johnson, (301)713-2289.

SUPPLEMENTARY INFORMATION: On July 22, 2002, notice was published in the Federal Register (67 FR 47774) that an amendment of Permit No. 751-1614, issued on March 7, 2002 (67 FR 11677), had been requested by the above-named organization. The requested amendment has been granted under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

The amended permit provides authorization to import and export samples collected from the cetacean species listed in the permit, within the territorial waters of any foreign country sanctioned by the United States and in accordance with the permit conditions.

Issuance of this amendment, as required by the ESA was based on a finding that such permit (1) was applied for in good faith, (2) will not operate to the disadvantage of the endangered species which is the subject of this permit, and (3) is consistent with the purposes and policies set forth in section 2 of the ESA.

Dated: September 26, 2002.
Eugene T. Nitta,
Acting Chief, Permits, Conservation and Education Division, Office of Protected Resources, National Marine Fisheries Service.

[FR Doc. 02-25332 Filed 10-3-02; 8:45 am]

BILLING CODE 3510-22-S